DEPARTMENT OF THE INTERIOR

National Park Service

[NPS-PWR-PERL-33429, PPPWVALRS0/PPMPSPD1Z.YM0000]

Establishment of a New Parking Fee Area at Pearl Harbor National Memorial

AGENCY: National Park Service, Interior.

ACTION: Notice.

SUMMARY: This notice is to comply with section 804 of the Federal Lands Recreation Enhancement Act of 2004. The act requires agencies to give the public advance notice (6 months) of the establishment of a new recreation fee area.

DATES: We will begin collecting fees on December 1, 2022.

FOR FURTHER INFORMATION CONTACT: Tom Leatherman, Superintendent, 1 Arizona Memorial Place, Honolulu, HI 9681. 808-490-8078 or via email at tom_leatherman@nps.gov.

SUPPLEMENTARY INFORMATION: Pearl Harbor National Memorial plans to collect a parking fee of $7/day ($8/day if through rec.gov) beginning in 6 months. Revenue will be used to cover the cost of collections at the park, address the park's deferred maintenance backlog, and provide enhanced visitor services.

These fees were determined by cost comparison of other sites on Oahu and at other National Park Sites. In accordance with NPS public involvement guidelines, the park engaged numerous individuals, organizations, and local, state, and Federal government representatives while planning for the implementation of this fee.

Justin Unger,
Associate Director, Business Services.

[FR Doc. 2022-11393 Filed 5-31-22; 8:45 am]

BILLING CODE 4312-52-P